DEPARTMENT OF TRANSPORTATION

Federal Aviation Administration

14 CFR Part 39

[Docket No. FAA-2020-0779; Product Identifier 2020-NM-092-AD; Amendment 39-21311; AD 2020-22-15]

RIN 2120-AA64

Airworthiness Directives; the Boeing Company Airplanes

AGENCY: Federal Aviation Administration (FAA), DOT.

ACTION: Final rule.

SUMMARY: The FAA is adopting a new airworthiness directive (AD) for all The Boeing Company Model DC-10-10 and DC-10-10F airplanes, Model DC-10-15 airplanes, Model DC-10-30 and DC-10-30F (KC-10A and KDC-10) airplanes, Model DC-10-40 and DC-10-40F airplanes, Model MD-10-10F and MD-10-30F airplanes, and Model MD-11 and MD-11F airplanes. This AD was prompted by reports of cracked floor beams and floor beam supports in the area of the overwing exit doors located at certain stations (STA). This AD requires an inspection of the overwing floor beams for any repair, repetitive inspections of the overwing floor beams and floor beam supports at certain STA on the left and right sides for any crack, and applicable on-condition actions. The FAA is issuing this AD to address the unsafe condition on these products.

DATES: This AD is effective December 18, 2020.

The Director of the Federal Register approved the incorporation by reference of certain publications listed in this AD as of December 18, 2020.

ADDRESSES: For service information identified in this final rule, contact Boeing Commercial Airplanes, Attention: Contractual & Data Services (C&DS), 2600 Westminster Blvd., MC 110-SK57, Seal Beach, CA 90740-5600; telephone 562-797-1717; internet https://www.myboeingfleet.com. You may view this service information at the FAA, Airworthiness Products Section, Operational Safety Branch, 2200 South 216th St., Des Moines, WA. For information on the availability of this material at the FAA, call 206-231-3195. It is also available on the internet at https://www.regulations.gov by searching for and locating Docket No. FAA-2020-0779.

Examining the AD Docket

You may examine the AD docket on the internet at https://www.regulations.gov by searching for and locating Docket No. FAA-2020-0779; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Manuel Hernandez, Aerospace Engineer, Systems and Equipment Section, FAA, Los Angeles ACO Branch, 3960 Paramount Boulevard, Lakewood, CA 90712-4137; phone: 562-627-5256; fax: 562-627-5210; email: Manuel.F.Hernandez@faa.gov.

SUPPLEMENTARY INFORMATION:

Discussion

The FAA issued a notice of proposed rulemaking (NPRM) to amend 14 CFR part 39 by adding an AD that would apply to all The Boeing Company Model DC-10-10 and DC-10-10F airplanes, Model DC-10-15 airplanes, Model DC-10-30 and DC-10-30F (KC-10A and KDC-10) airplanes, Model DC-10-40 and DC-10-40F airplanes, Model MD-10-10F and MD-10-30F airplanes, and Model MD-11 and MD-11F airplanes. The NPRM published in the Federal Register on August 25, 2020 (85 FR 52287). The NPRM was prompted by reports of cracked floor beams and floor beam supports in the area of the overwing exit doors located at certain STA. The NPRM proposed to require an inspection of the overwing floor beams for any repair, repetitive inspections of the overwing floor beams and floor beam supports at certain STA on the left and right sides for any crack, and applicable on-condition actions.

The FAA is issuing this AD to address potential undetected overwing floor beam cracks that could grow in length until the floor beam severs, and, if limit load is applied with two adjacent severed floor beams, could adversely affect the structural integrity of the airplane, which could result in the loss of primary control systems and lead to reduced controllability of the airplane.

Comments

The FAA gave the public the opportunity to participate in developing this final rule. The FAA has considered the comments received. Boeing and Shawn Darr indicated support for the NPRM.

Conclusion

The FAA reviewed the relevant data, considered the comments received, and determined that air safety and the public interest require adopting this final rule as proposed, except for minor editorial changes. The FAA has determined that these minor changes:

• Are consistent with the intent that was proposed in the NPRM for addressing the unsafe condition; and

• Do not add any additional burden upon the public than was already proposed in the NPRM.

Related Service Information Under 1 CFR Part 51

The FAA reviewed Boeing Alert Requirements Bulletin DC10-53A184 RB, dated February 6, 2020; and Boeing Alert Requirements Bulletin MD11-53A088 RB, dated March 6, 2020. The service information describes procedures for a general visual inspection of the overwing floor beams for any repair; repetitive eddy current high frequency (ETHF) inspections of the overwing floor beams and floor beam supports for cracks, or repetitive ETHF inspections of the overwing floor beams and detailed inspections of the overwing floor beam supports at certain stations on the left and right sides for any crack, depending on configuration; and applicable on-condition actions. On-condition actions include repair. These documents are distinct since they apply to different airplane models. This service information is reasonably available because the interested parties have access to it through their normal course of business or by the means identified in the ADDRESSES section.

Costs of Compliance

The FAA estimates that this AD affects 224 airplanes of U.S. registry. The FAA estimates the following costs to comply with this AD:

Estimated Costs for Required Actions
Action | Labor cost | Parts cost | Cost per product | Cost on U.S. operators
General visual inspection | 1 work-hour × $85 per hour = $85 | $0 | $85 | $19,040.
ETHF and detailed inspections | Up to 70 work-hours × $85 per hour = Up to $5,950 per inspection cycle | 0 | Up to $5,950 per inspection cycle | Up to $1,332,800 per inspection cycle.

The FAA estimates the following costs to do any necessary on-condition actions that would be required. The FAA has no way of determining the number of aircraft that might need these on-condition actions:

Estimated Costs of On-Condition Actions
Labor cost | Parts cost | Cost per product
Up to 375 work-hours × $85 per hour = Up to $31,875 | Up to $190,576 | Up to $222,451.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-22-15 The Boeing Company: Amendment 39-21311; Docket No. FAA-2020-0779; Product Identifier 2020-NM-092-AD.

(a) Effective Date

This AD is effective December 18, 2020.

(b) Affected ADs

None.

(c) Applicability

This AD applies to all The Boeing Company airplanes specified in paragraphs (c)(1) through (6) of this AD, certificated in any category.

(1) Model DC-10-10 and DC-10-10F airplanes.

(2) Model DC-10-15 airplanes.

(3) Model DC-10-30 and DC-10-30F (KC-10A and KDC-10) airplanes.

(4) Model DC-10-40 and DC-10-40F airplanes.

(5) Model MD-10-10F and MD-10-30F airplanes.

(6) Model MD-11 and MD-11F airplanes.

(d) Subject

Air Transport Association (ATA) of America Code 53, Fuselage.

(e) Unsafe Condition

This AD was prompted by reports of cracked floor beams and floor beam supports in the area of the overwing exit doors located at certain stations. The FAA is issuing this AD to address potential undetected overwing floor beam cracks that could grow in length until the floor beam severs, and, if limit load is applied with two adjacent severed floor beams, could adversely affect the structural integrity of the airplane, which could result in the loss of primary control systems and lead to reduced controllability of the airplane.

(f) Compliance

Comply with this AD within the compliance times specified, unless already done.

(g) Required Actions

Except as specified by paragraph (h) of this AD: At the applicable times specified in the “Compliance” paragraph of Boeing Alert Requirements Bulletin DC10-53A184 RB, dated February 6, 2020; or Boeing Alert Requirements Bulletin MD11-53A088 RB, dated March 6, 2020; as applicable, do all applicable actions identified in, and in accordance with, the Accomplishment Instructions of Boeing Alert Requirements Bulletin DC10-53A184 RB, dated February 6, 2020; or Boeing Alert Requirements Bulletin MD11-53A088 RB, dated March 6, 2020; as applicable.

Note 1 to paragraph (g): Guidance for accomplishing the actions required by this AD can be found in Boeing Alert Service Bulletin DC10-53A184, dated February 6, 2020; or Boeing Alert Service Bulletin MD11-53A088, dated March 6, 2020; as applicable, which are referred to in Boeing Alert Requirements Bulletin DC10-53A184 RB, dated February 6, 2020; and Boeing Alert Requirements Bulletin MD11-53A088 RB, dated March 6, 2020; respectively.

(h) Exceptions to Service Information Specifications

(1) Where Boeing Alert Requirements Bulletin DC10-53A184 RB, dated February 6, 2020, uses the phrase “the original issue date of Requirements Bulletin DC10-53A184 RB,” this AD requires using “the effective date of this AD,” except where Boeing Alert Requirements Bulletin DC10-53A184 RB, dated February 6, 2020, uses the phrase “the original issue date of Requirements Bulletin DC10-53A184 RB” in a note or flag note.

(2) Where Boeing Alert Requirements Bulletin MD11-53A088 RB, dated March 6, 2020, uses the phrase “the original issue date of Requirements Bulletin MD11-53A088 RB,” this AD requires using “the effective date of this AD,” except where Boeing Alert Requirements Bulletin MD11-53A088 RB, dated March 6, 2020, uses the phrase “the original issue date of Requirements Bulletin MD11-53A088 RB” in a note or flag note.

(3) Where Boeing Alert Requirements Bulletin DC10-53A184 RB, dated February 6, 2020, specifies contacting Boeing for repair instructions or for alternative inspections: This AD requires doing the repair, or doing the alternative inspections and applicable on-condition actions before further flight using a method approved in accordance with the procedures specified in paragraph (i) of this AD.

(4) Where Boeing Alert Requirements Bulletin MD11-53A088 RB, dated March 6, 2020, specifies contacting Boeing for repair instructions or for alternative inspections: This AD requires doing the repair, or doing the alternative inspections and applicable on-condition actions before further flight using a method approved in accordance with the procedures specified in paragraph (i) of this AD.

(i) Alternative Methods of Compliance (AMOCs)

(1) The Manager, Los Angeles ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j)(1) of this AD. Information may be emailed to: 9-ANM-LAACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by The Boeing Company Organization Designation Authorization (ODA) that has been authorized by the Manager, Los Angeles ACO Branch, FAA, to make those findings. To be approved, the repair method, modification deviation, or alteration deviation must meet the certification basis of the airplane, and the approval must specifically refer to this AD.

(j) Related Information

(1) For more information about this AD, contact Manuel Hernandez, Aerospace Engineer, Systems and Equipment Section, FAA, Los Angeles ACO Branch, 3960 Paramount Boulevard, Lakewood, CA 90712-4137; phone: 562-627-5256; fax: 562-627-5210; email: Manuel.F.Hernandez@faa.gov.

(2) Service information identified in this AD that is not incorporated by reference is available at the addresses specified in paragraphs (k)(3) and (4) of this AD.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Requirements Bulletin DC10-53A184 RB, dated February 6, 2020.

(ii) Boeing Alert Requirements Bulletin MD11-53A088 RB, dated March 6, 2020.

(3) For service information identified in this AD, contact Boeing Commercial Airplanes, Attention: Contractual & Data Services (C&DS), 2600 Westminster Blvd., MC 110-SK57, Seal Beach, CA 90740-5600; telephone 562-797-1717; internet https://www.myboeingfleet.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fedreg.legal@nara.gov, or go to: https://www.archives.gov/federal-register/cfr/ibr-locations.html.

Issued on October 21, 2020.
Lance T. Gant,
Director, Compliance & Airworthiness Division, Aircraft Certification Service.

[FR Doc. 2020-25013 Filed 11-12-20; 8:45 am]

BILLING CODE 4910-13-P